FEDERAL COMMUNICATIONS COMMISSION

47 CFR Part 64

[CG Docket Nos. 03-123 and 13-24; FCC 19-11]

IP CTS Improvements and Program Management

AGENCY: Federal Communications Commission.

ACTION: Proposed rule.

SUMMARY: In this document, the Commission proposes to require IP CTS providers to include user account identifiers in monthly call records submitted for compensation; allow new IP CTS users to receive service for up to two weeks, while their identities are verified in the User Registration Database; and simplify the handling of 911 calls placed by IP CTS users who connect to an IP CTS provider via the internet in order to place a call. These proposals will improve IP CTS by better facilitating compensation of providers by the TRS Fund administrator, preventing unnecessary inconvenience to IP CTS registrants seeking new service, and eliminating outdated 911 rules that no longer appear to serve a valid public safety purpose.

DATES: Comments are due April 15, 2019. Reply comments are due April 29, 2019.

ADDRESSES: You may submit comments, identified by CG Docket Nos. 03-123 and 13-24, by either of the following methods:

• Federal Communications Commission's website: https://www.fcc.gov/ecfs/. Follow the instructions for submitting comments.

• People with Disabilities: Contact the FCC to request reasonable accommodations (accessible format documents, sign language interpreters, CART, etc.) by email: FCC504@fcc.gov or phone: 202-418-0530 or TTY: 888-835-5322.

For detailed instructions for submitting comments and additional information on the rulemaking process, see the SUPPLEMENTARY INFORMATION section of this document.

FOR FURTHER INFORMATION CONTACT: Michael Scott, Consumer and Governmental Affairs Bureau, at (202) 418-1264, or email Michael.Scott@fcc.gov.

SUPPLEMENTARY INFORMATION: This is a summary of the Commission's Further Notice of Proposed Rulemaking (FNPRM), CG Docket Nos. 03-123, 13-24; FCC 19-11, adopted on February 14, 2019, and released on February 15, 2019. The Report and Order in document FCC 19-11 will be published elsewhere in the Federal Register. The full text of this document is available for public inspection and copying via the Commission's Electronic Comment Filing System (ECFS), and during regular business hours at the FCC Reference Information Center, Portals II, 445 12th Street SW, Room CY-A257, Washington, DC 20554. To request materials in accessible formats for people with disabilities (Braille, large print, electronic files, audio format), send an email to fcc504@fcc.gov or call the Consumer and Governmental Affairs Bureau at (202) 418-0530 (voice) or (202) 418-0432 (TTY).

This proceeding shall be treated as a “permit-but-disclose” proceeding in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Initial Paperwork Reduction Act of 1995 Analysis

The Further Notice in document FCC 19-11 seeks comment on proposed rule amendments that may result in modified information collection requirements. If the Commission adopts any modified information collection requirements, the Commission will publish another notice in the Federal Register inviting the public to comment on the requirements, as required by the Paperwork Reduction Act. Public Law 104-13; 44 U.S.C. 3501-3520. In addition, pursuant to the Small Business Paperwork Relief Act of 2002, the Commission seeks comment on how it might further reduce the information collection burden for small business concerns with fewer than 25 employees. Public Law 107-198; 44 U.S.C. 3506(c)(4).

Synopsis

1. IP CTS is a form of TRS that allows individuals with hearing loss to both read captions and use their residual hearing to understand a telephone conversation. Generally, IP CTS employs two network paths: A voice connection between the parties to the call and a separate internet connection that transmits the other party's voice from the IP CTS user's phone to a communications assistant (CA) and transmits captions from the CA back to the IP CTS user. In the most widely used version of IP CTS, the CA then re-voices everything the hearing party says into a speech recognition program, which automatically transcribes the words into captions.

Supporting Data for IP CTS Compensation Requests

2. To facilitate compensation of providers by the TRS Fund administrator, the Commission proposes to amend its rule specifying the data accompanying compensation requests by TRS providers, to expressly state that IP CTS providers must submit a unique account identifier, such as the electronic serial number of the user's device, the user's log-in ID, or the user's email address, to the TRS Fund administrator in monthly call detail records submitted for compensation. IP CTS users' telephone numbers are not assigned specifically for IP CTS use and are not always the most effective means to access a user's account information. Therefore, IP CTS providers currently use other identifiers to uniquely identify each IP CTS account, such as electronic serial numbers of IP CTS devices, log-in IDs, or email addresses. Further, the Commission has amended its rules to require IP CTS providers to include a unique account identifier in their data submissions to the TRS User Registration Database (Database). The Commission believes amending its rules to expressly provide that the same information be included in call detail records will enable the Fund administrator to more efficiently verify compensation requests, by matching call data with the corresponding user data in the Database. The Commission also believes that the costs of collecting and providing this information as part of compensation requests will be minimal, especially because IP CTS providers are already providing an electronic serial number in call detail records for the vast majority of calls. The Commission seeks comment on these assumptions and on the costs and benefits of adopting this proposal. The Commission also seeks comment on whether other changes are warranted in the data elements required with IP CTS providers' compensation requests.

Providing Service to New and Porting Users Pending Database Verification

3. To eliminate unnecessary inconvenience to IP CTS registrants, without a significant increase in the risk of waste, fraud, and abuse, the Commission proposes to allow IP CTS providers to provide service to new and porting users for up to two weeks pending the completion of identity verification by the Database administrator. The Commission believes this change is needed to ensure that service to new and porting IP CTS users can be commenced efficiently and without undue delay or disruption of service, in order to facilitate competition and ensure the functional equivalence of this service. Compensation for calls placed or received by the user during this period would be paid only if the user's identity is ultimately verified.

4. Experience with VRS user registration has shown that identity verification for most users is completed within hours of data submission to the Database, but for some users, verification can take longer, e.g., due to technical problems or because the user's identity cannot be verified without the submission of additional information. Under the proposed rule change, a consumer would not be subjected to a delay in commencement of service as a result of verification issues that are often beyond the consumer's control. The Commission believes that any resulting risk of waste, fraud, or abuse is minimal because, under the proposal, no compensation may be requested or paid until the user's identity has been successfully verified. The Commission seeks comment on the costs and benefits of this proposal.

IP CTS Emergency Call Handling Requirements

5. The emergency call handling requirements for IP CTS apply only to certain forms of this service. For the predominantly used form of IP CTS, where the voice connection for a call is established using an ordinary wireline telephone service and there is a separate internet connection made solely for the IP CTS user to receive captions, the telephone company or voice-over-internet-Protocol (VoIP) service provider is responsible for delivering 911 calls and location information to emergency authorities. However, where IP CTS is configured for web and wireless access, such that the user can initiate a call by connecting to the IP CTS provider via the internet, the IP CTS provider is responsible for handling 911 calls in accordance with § 64.605(a) of the Commission's rules.

6. The Commission proposes to amend the Commission's rules to simplify the handling of 911 calls placed by IP CTS users who initiate calls via the internet—generally, web- and wireless-based IP CTS—by eliminating any need for IP CTS providers to involve their CAs in 911 call handling and to collect and transmit unnecessary information. The Commission also seeks comment on whether any changes are needed in the scope of the 911 call handling rule applicable to IP CTS. If so, the Commission seeks comment on whether and how such changes would affect the 911 responsibilities of underlying service providers.

7. The current rule requires an IP CTS provider, among other things, to transmit the caller's name, the relay provider's name, the CA's callback number, and the CA's identification number to the Public Service Answering Point (PSAP) or other emergency authority receiving a 911 IP CTS call, and to initiate the reconnection of disconnected calls. These requirements, which were devised to address problems that arose in early versions of VRS and IP Relay, have posed significant implementation issues for providers of web and wireless based IP CTS, largely due to the limited communication capabilities of IP CTS CAs. Further, the Commission believes that the alternative approach proposed below would provide more effective implementation of the policy underlying the rule.

8. First, the Commission proposes to eliminate the current requirements for an IP CTS provider to deliver to the PSAP (or other emergency authority) the name of the caller, the name of the provider, and an identification number and callback number for the CA handling the call. Instead, the Commission proposes to require an IP CTS provider to provide a telephone number to the PSAP that enables the PSAP to call the user back directly, while ensuring that the user receives captions on the callback. This proposed change would decrease the time and cost associated with responding to emergencies reported by web- and wireless-based IP CTS users by relieving both IP CTS providers and PSAPs of the need to collect, transmit, and review information that appears to be unnecessary for handling a 911 call.

9. Second, the Commission proposes to remove the current requirement for an IP CTS provider to initiate the reconnection of a disconnected 911 call. IP CTS CAs generally do not have the capability to connect calls. Accordingly, to comply with the reconnection requirement, IP CTS providers have either configured a unique setup for 911 calls or have used a complicated work-around. Further, the Commission believes that the provider's assignment to users of an IP CTS-specific telephone number that is transmitted to the PSAP with an emergency call will render it unnecessary for the IP CTS provider to be involved in reconnecting disconnected 911 calls.

10. The Commission believes these amendments are likely to save precious time during an emergency. Less time will be wasted in obtaining unnecessary information from callers, and 911 call takers will be able to reconnect with the caller more rapidly rather than waiting for the TRS provider to reestablish the call. The Commission also believes that implementing this proposal will impose minimal costs—and may actually produce net cost savings, given the elimination of unnecessary CA involvement in call set-up and the reduced amount of information that an IP CTS provider will need to collect and transmit during an IP CTS call. Multiple IP CTS providers have sought waivers of the Commission rules to implement the changes the Commission proposes, suggesting that in their evaluation, the benefits of the proposal outweigh the costs. The Commission seeks comment on these proposals and its underlying assumptions. The Commission also seeks comment on the length of time that would be needed for IP CTS providers to come into compliance with the modified rule.

11. Technical Feasibility of Assigning NANP Numbers. To implement the Commission's proposal, IP CTS providers must be able to provide their web- or wireless-based users with NANP telephone numbers that enable the users to receive captioned callbacks from a 911 PSAP. Although the record suggests that the assignment of such NANP numbers for the purpose of receiving IP CTS calls is feasible, the Commission seeks comment on whether providing such telephone numbers poses any technical, administrative, legal, or other challenges for IP CTS providers generally and how such issues could be resolved.

12. Scope of the Rule. The Commission also seeks comment on how to define the category of IP CTS providers that would be subject to the proposed 911 call handling rule. Should the Commission continue to define this class as “providers of forms of IP CTS that allow users to initiate calls by contacting the provider over the internet”? Are there alternative formulations that would be more appropriate? For example, should the Commission define this provider class as “IP CTS providers that provide the voice connection, as well as captions, for an IP CTS call”? To the extent that the current definition is changed to narrow (or expand) the category of IP CTS providers covered by § 64.605 of the Commission's rules, how would that affect the 911 obligations of other service providers—such as the underlying carriers that transmit IP CTS calls—and what are the costs and benefits of such a shift in responsibility for 911 calls?

13. Should an IP CTS provider that provides a voice connection, e.g., through a VoIP service or commercial mobile radio service (CMRS), be deemed a VoIP or CMRS reseller subject to the emergency call handling rules applicable to such resellers? To the extent that an IP CTS provider is deemed to be a VoIP or CMRS reseller, the provider's 911 location determination obligations are likely to be affected. For example, if an IP CTS provider is deemed a VoIP reseller, the provider would be required to determine a 911 caller's location by means of the caller's Registered Location, rather than by asking the caller for his or her location before routing the call to a PSAP, as provided for in § 64.605(a) of the Commission's rules. Similarly, an IP CTS provider that is deemed a CMRS reseller would be required to determine a 911 caller's location in accordance with § 20.18 of the Commission's rules. In the event that an IP CTS provider is deemed to be a VoIP or CMRS reseller, what rule modifications, if any, would be necessary to maintain the IP CTS provider's obligation to provide captions—and to give such calls priority over other captioned calls—for 911 calls initiated by its registered users, as well as for callbacks by the 911 PSAP?

14. Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: http://www.fcc.gov/ecfs/.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington DC 20554.

People with Disabilities: To request materials in accessible formats for people with disabilities (braille, large print, electronic files, audio format), send an email to fcc504@fcc.gov or call the Consumer & Governmental Affairs Bureau at 202-418-0530 (voice), 888-835-5322 (tty).

Initial Regulatory Flexibility Analysis

15. As required by the Regulatory Flexibility Act of 1980, as amended (RFA), the Commission has prepared this Initial Regulatory Flexibility Analysis (IRFA) of the possible significant economic impact on a substantial number of small entities by the policies and rules proposed in the document FCC 19-11. Written public comments are requested on this IRFA. Comments must be identified as responses to the IRFA and must be filed by the deadline for comments specified in the DATES section. The Commission will send a copy of document FCC 19-11, to the Chief Counsel for Advocacy of the Small Business Administration (SBA).

Need For, and Objectives of, the Proposed Rules

16. In document FCC 19-11, the Commission proposes to require that a unique account identifier, such as the electronic serial number of an end user's device, a user's log-in identification, or an email address, be included in call detail records (CDRs) submitted for TRS Fund compensation. Such information will facilitate compensation of providers by the TRS Fund administrator. The Commission also proposes to permit IP CTS providers to provide service to new users, after the deadline for submission of user registration information to the Database, for up to two weeks after the user's registration information has been populated in the Database while the Database user verification process is pending, and to collect TRS Fund compensation for calls that are otherwise compensable only if the TRS user is ultimately verified as eligible to use IP CTS by the Database administrator.

17. In addition, for forms of IP CTS that allow users to initiate calls by contacting the provider over the internet, the Commission proposes to update the rules governing the handling of IP CTS calls to 911 emergency services. Specifically, in lieu of the current requirements to deliver to the PSAP the name of the caller, the name of the provider, and an identification number and callback number for the CA handling the call, and to initiate the reconnection of disconnected 911 calls, the Commission proposes to require a provider to provide a telephone number to the PSAP that enables the PSAP to call the user back via IP CTS, so that the user receives captions. This approach will be more consistent with the Commission's rules for 911 call handling by VRS, IP Relay, and VoIP service providers and will likely save IP CTS users precious time during an emergency.

Legal Basis

18. The authority for this proposed rulemaking is contained in sections 1 and 225 of the Communications Act of 1934, as amended, 47 U.S.C. 151, 225.

Small Entities Impacted

19. The rules proposed in document FCC 19-11 will affect obligations of IP CTS providers. These services can be included within the broad economic category of All Other Telecommunications.

Description of Projected Reporting, Recordkeeping, and Other Compliance Requirements

20. The proposed revisions to the call data reporting requirements would require IP CTS providers to maintain records of unique account identifiers, such as the electronic serial numbers of user devices, users' log-in identifications, or user email addresses and provide that information to the TRS Fund administrator when seeking compensation for calls. The proposed revision regarding when IP CTS providers may commence service to new users would permit IP CTS providers to provide service to new users at the provider's own risk for up to two weeks while the Database verification process is pending.

21. The proposed changes to the rules governing the handling of IP CTS calls to 911 emergency services would require IP CTS providers to deliver a user's assigned telephone number to an emergency authority when 911 is dialed.

Steps Taken To Minimize Significant Impact on Small Entities, and Significant Alternatives Considered

22. If the Commission adopts the proposed revisions to the call data collection requirements, it would require IP CTS providers to provide unique account identifiers, such as electronic serial numbers of user devices, users' log-in identification, or user email addresses, to the TRS Fund administrator when seeking compensation for calls. This requirement is narrowly tailored to help the Commission identify and evaluate risks, monitoring compliance with program rules, and minimize waste, fraud, and abuse in the IP CTS program. The Commission believes that the requirement will not be burdensome because providers already have a record of such unique account identifiers. Thus, the Commission believes that adding this information to already existing call data requirements will have a minimal effect on small entities.

23. If the Commission adopts the proposed revision permitting IP CTS providers to commence service to new users at the provider's own risk for up to two weeks while the Database verification process is pending, it would afford providers additional flexibility on when to commence service. The rule change is designed to avoid possible burdens on small businesses because the provision of service prior to verification by the Database Administrator at the provider's own risk is optional, and providers also have the option to wait to provide service to the user until after the user is verified by the Database Administrator.

24. If the Commission adopts the proposed changes to the rules governing the handling of IP CTS calls to 911 emergency services for those forms of IP CTS that allow users to initiate calls by contacting the provider over the internet, the Commission believes it would reduce the burden on IP CTS providers, including small entities, to manually collect and retain information from IP CTS users at the start of an emergency call. This transition could impose implementation costs on providers, but the Commission believes the benefits to the transition would outweigh any such costs. Specifically, during an emergency less time would be wasted in obtaining information from callers that is no longer necessary, and 911 call takers would be able to reconnect with the caller more rapidly. In addition to saving time during a 911 call, adoption of the rules could also result in net cost savings due to the reduced amount of information that an IP CTS provider would need to collect and transmit during an IP CTS call. The Commission also believes that IP CTS providers would prefer this approach as evidenced by their requests to implement emergency call handling in accordance with the Commission's proposal.

25. The Commission seeks comment from all interested parties. Small entities are encouraged to bring to the Commission's attention any specific concerns they may have with the proposals outlined. The Commission expects to consider the economic impact on small entities, as identified in comments filed in response to document FCC 19-11, in reaching its final conclusions and taking action in this proceeding.

Federal Rules Which Duplicate, Overlap, or Conflict With, the Commission's Proposals

26. None.

List of Subjects in 47 CFR Part 64

Individuals with disabilities, Telecommunications, Telephones.

Federal Communications Commission.
Katura Jackson,
Federal Register Liaison Officer, Office of the Secretary.

Proposed Rules

For the reasons discussed in the preamble, the Federal Communications Commission proposes to amend 47 part 64 as follows:

PART 64—MISCELLANEOUS RULES RELATING TO COMMON CARRIERS

1. The authority citation for part 64 continues to read as follows:

Authority: 47 U.S.C. 154, 201, 202, 217, 218, 220, 222, 225, 226, 227, 228, 251(a), 251(e), 254(k), 262, 403(b)(2)(B), (c), 616, 620, 1401-1473, unless otherwise noted.

2. Amend § 64.604 by redesignating paragraphs (c)(5)(iii)(D)(5) through (7) as paragraphs (c)(5)(iii)(D)(6) through (8) and adding paragraph (c)(5)(iii)(D)(5) to read as follows:

§ 64.604 Mandatory minimum standards.

* * * * *

(c) * * *

(5) * * *

(iii) * * *

(D) * * *

(5) Additional call data required from internet protocol captioned telephone service providers. In addition to the data required by paragraph (c)(5)(iii)(D)(2) and (3) of this section, internet protocol captioned telephone service providers seeking compensation from the Fund shall submit a unique account identifier identifying the user receiving captions for a call, such as the electronic serial number of the internet protocol captioned telephone service device, the user's log-in identification, or the user's email address.

* * * * *

3. Amend § 64.605 by revising paragraph (a)(1) and adding paragraph (a)(3) to read as follows:

§ 64.605 Emergency calling requirements.

(a) Additional emergency calling requirements applicable to internet-based TRS providers. (1) As of December 31, 2008, the requirements of paragraphs (a)(2)(i) and (a)(2)(iv) of this section shall not apply to providers of VRS and IP Relay to which paragraph (b) of this section applies. As of the effective date of paragraph (a)(3) of this section, the requirements of paragraph (a)(2)(iv) and (v) of this section shall not apply to any provider of IP CTS.

* * * * *

(3) Providers of forms of IP CTS that allow users to initiate calls by contacting the provider over the internet shall deliver to the PSAP, designated statewide default answering point, or appropriate local emergency authority, at the outset of an emergency call, the location of the emergency, and a telephone number that is assigned to the caller and that enables the PSAP, designated statewide default answering point, or appropriate local emergency authority to call the 911 caller back directly, while ensuring that the caller receives captions on the callback.

4. Amend § 64.611 by revising paragraph (j)(2)(iv) to read as follows:

§ 64.611 internet-based TRS registration.

* * * * *

(j) * * *

(2) * * *

(iv) By the date of initiation of service to an IP CTS user or device, or one year after notice from the Commission that the TRS User Registration Database is ready to accept such information, whichever is later, IP CTS providers shall submit to the TRS User Registration Database the registration information required by paragraph (j)(2)(i) or (iii) of this section. Calls from or to registered IP CTS users or devices whose registration information has not been populated in the TRS User Registration Database by the applicable date shall not be compensable, and an IP CTS provider shall not seek TRS Fund compensation for such calls, provided however, that after the applicable date, IP CTS providers may provide service to new users for up to two weeks after the user's registration information has been populated in the TRS User Registration Database while the TRS User Registration Database user verification process is pending and will seek TRS Fund compensation for such calls that are otherwise compensable only if the new user is ultimately verified as eligible to use IP CTS by the TRS User Registration Database administrator.

* * * * *

[FR Doc. 2019-04040 Filed 3-13-19; 8:45 am]

BILLING CODE 6712-01-P